DEPARTMENT OF COMMERCE

International Trade Administration

[A-570-952; A-583-844]

Narrow Woven Ribbons With Woven Selvedge From the People's Republic of China and Taiwan: Final Results of the Expedited Sunset Reviews of the Antidumping Duty Orders

AGENCY: Enforcement and Compliance, International Trade Administration, Department of Commerce.

SUMMARY: As a result of these sunset reviews, the Department of Commerce (“the Department”) finds that revocation of the antidumping duty orders on narrow woven ribbons with woven selvedge (“NWRs”) from the People's Republic of China (“PRC”) and Taiwan would likely lead to continuation or recurrence of dumping, at the levels indicated in the “Final Results of Sunset Reviews” section of this notice.

DATES: Effective Date: December 8, 2015.

FOR FURTHER INFORMATION CONTACT: William Horn or Robert Galantucci, AD/CVD Operations, Office IV, Enforcement and Compliance, International Trade Administration, U.S. Department of Commerce, 14th Street and Constitution Avenue NW., Washington, DC 20230; telephone: (202) 482-2615 or (202) 482-2923, respectively.

SUPPLEMENTARY INFORMATION:

Background

On September 17, 2010, the Department published the antidumping duty orders on NWRs from the PRC and Taiwan, as amended.¹ On August 3, 2015, the Department initiated sunset reviews of the antidumping duty orders on NWRs from the PRC and Taiwan pursuant to section 751(c) of the Tariff Act of 1930, as amended (“the Act”).² On August 14, 2015, the Department received a timely notice of intent to participate in the sunset reviews from Berwick Offray LLC and its wholly-owned subsidiary Lion Ribbon Company, LLC (“domestic interested parties”), pursuant to 19 CFR 351.218(d)(1)(i).³ On August 31, 2015, domestic interested parties filed a timely substantive response with the Department pursuant to 19 CFR 351.218(d)(3)(i). The Department did not receive a substantive response from any respondent interested party. As a result, pursuant to section 751(c)(3)(B) of the Act and 19 CFR 351.218(e)(1)(ii)(C)(2), the Department conducted expedited sunset reviews of the Orders.

¹ See Notice of Antidumping Duty Orders: Narrow Woven Ribbons With Woven Selvedge From Taiwan and the People's Republic of China: Antidumping Duty Orders, 75 FR 53632 (September 1, 2010), as amended in Narrow Woven Ribbons With Woven Selvedge From Taiwan and the People's Republic of China: Amended Antidumping Duty Orders, 75 FR 56982 (September 17, 2010) (“Orders”).

² See Initiation of Five-Year (“Sunset”) Review, 80 FR 45945 (August 3, 2015).

³ Berwick Offray LLC claimed interested party status as a manufacturer of the domestic like product, pursuant to section 771(9)(C) of the Act.

Scope of the Orders

The merchandise subject to these Orders is narrow woven ribbons with woven selvedge, in any length, but with a width (measured at the narrowest span of the ribbon) less than or equal to 12 centimeters, composed of, in whole or in part, man-made fibers (whether artificial or synthetic, including but not limited to nylon, polyester, rayon, polypropylene, and polyethylene teraphthalate), metal threads and/or metalized yarns, or any combination thereof. Imports of merchandise included within the scope of these Orders are currently classifiable under subheading 5806.32.1020, 5806.32.1030, 5806.32.1050 and 5806.32.1060 of the Harmonized Tariff Schedule of the United States (“HTSUS”).⁴ The Decision Memorandum, which is hereby adopted by this notice, provides a full description of the scope of the Orders.⁵

⁴ Subject merchandise also may enter under HTSUS subheadings 5806.31.00, 5806.32.20, 5806.39.20, 5806.39.30, 5808.90.00, 5810.91.00, 5810.99.90, 5903.90.10, 5903.90.25, 5907.00.60 and 5907.00.80 and under statistical categories 5806.32.1080, 5810.92.9080, 5903.90.3090 and 6307.90.9889.

⁵ See the “Issues and Decision Memorandum for the Expedited Sunset Review of the Antidumping Duty Order on Narrow Woven Ribbons With Woven Selvedge from the People's Republic of China and Taiwan” from James Maeder, Senior Director, Office I, Antidumping and Countervailing Duty Operations, to Christian Marsh, Deputy Assistant Secretary for Antidumping and Countervailing Duty Operations, dated concurrently with, and hereby adopted by, this notice (“Decision Memorandum”).

The Decision Memorandum is a public document and is on file electronically via Enforcement and Compliance's Antidumping and Countervailing Duty Centralized Electronic Service System (ACCESS). ACCESS is available to registered users at http://access.trade.gov and in the Central Records Unit, room B8024 of the main Department of Commerce building. In addition, a complete version of the Decision Memorandum can be accessed at http://enforcement.trade.gov/frn/. The signed Decision Memorandum and the electronic version of the Decision Memorandum are identical in content.

Analysis of Comments Received

All issues raised in these sunset reviews are addressed in the Decision Memorandum. The issues discussed in the Decision Memorandum include the likelihood of continuation or recurrence of dumping and the magnitude of the margins likely to prevail if the Orders were to be revoked.

Final Results of Sunset Reviews

Pursuant to section 752(c)(3) of the Act, the Department determines that revocation of the Orders would likely lead to continuation or recurrence of dumping at weighted-average dumping margins up to 247.65 percent for the PRC and up to 4.37 percent for Taiwan.

Notification Regarding Administrative Protective Orders

This notice also serves as the only reminder to parties subject to administrative protective order (“APO”) of their responsibility concerning the return or destruction of proprietary information disclosed under APO in accordance with 19 CFR 351.305. Timely notification of the return or destruction of APO materials or conversion to judicial protective order is hereby requested. Failure to comply with the regulations and terms of an APO is a violation which is subject to sanction.

We are issuing and publishing these results and notice in accordance with sections 751(c), 752(c), and 777(i)(1) of the Act and 19 CFR 351.218.

Dated: December 1, 2015._
Christian Marsh,
Deputy Assistant Secretary for Antidumping and Countervailing Duty Operations.

Appendix—List of Topics Discussed in the Issues and Decision Memorandum

I. Summary

II. Background

III. Scope of the Orders

IV. History of the Orders

V. Legal Framework

VI. Discussion of the Issues

1. Likelihood of Continuation or Recurrence of Dumping

2. Magnitude of the Margins Likely to Prevail

VII. Final Results of Sunset Reviews

VIII. Recommendation

[FR Doc. 2015-30898 Filed 12-7-15; 8:45 am]

BILLING CODE 3510-DS-P